INTERNATIONAL TRADE COMMISSION

[Investigation Nos. 701-TA-732 and 731-TA-1701 (Final)]

Tungsten Shot From China

Determinations

On the basis of the record ¹ developed in the subject investigations, the United States International Trade Commission (“Commission”) determines, pursuant to the Tariff Act of 1930 (“the Act”), that the establishment of an industry in the United States is materially retarded by reason of imports of tungsten shot from China, provided for in subheadings 9306.29.00 and 8101.99.80 of the Harmonized Tariff Schedule of the United States, that have been found by the U.S. Department of Commerce (“Commerce”) to be sold in the United States at less than fair value (“LTFV”), and imports of the subject merchandise from China that have been found to be subsidized by the government of China.²

¹ The record is defined in § 207.2(f) of the Commission's Rules of Practice and Procedure (19 CFR 207.2(f)).

² 90 FR 30849 and 90 FR 30869 (July 11, 2025).

Background

The Commission instituted these investigations effective July 10, 2024, following receipt of petitions filed with the Commission and Commerce by Tungsten Parts Wyoming, Inc., Laramie, Wyoming. The final phase of the investigations was scheduled by the Commission following notification of preliminary determinations by Commerce that imports of tungsten shot from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 28, 2025 (90 FR 10941). The Commission conducted its hearing on July 9, 2025. All persons who requested the opportunity were permitted to participate.

The Commission made these determinations pursuant to §§ 705(b) and 735(b) of the Act (19 U.S.C. 1671d(b) and 19 U.S.C. 1673d(b)). It completed and filed its determinations in these investigations on August 20, 2025. The views of the Commission are contained in USITC Publication 5655 (August 2025), entitled Tungsten Shot from China: Investigation Nos. 701-TA-732 and 731-TA-1701 (Final).

By order of the Commission.
Issued: August 20, 2025.
Lisa Barton,
Secretary to the Commission.

[FR Doc. 2025-16187 Filed 8-22-25; 8:45 am]

BILLING CODE 7020-02-P